DEPARTMENT OF COMMERCE

Bureau of Industry and Security

Regulations and Procedures Technical Advisory Committee; Notice of Open Meeting

The Regulations and Procedures Technical Advisory Committee will meet on December 3, 2002, 9 a.m., Room 3884, in the Herbert C. Hoover Building, 14th Street between Constitution and Pennsylvania Avenues, NW., Washington, DC. The Committee advises the Office of the Assistant Secretary for Export Administration on implementation of the Export Administration Regulations (EAR) and provides for continuing review to update the EAR as needed.

Agenda

1. Opening remarks by the Chairman.

2. Presentation of papers or comments by the public.

3. Update on pending regulations.

4. Discussion on status/plans for TSR MTOP limit regulation.

5. Discussion on deemed export license processing and standard conditions.

6. Review and discussion of encryption regulation recommendations.

7. Discussion on AES/SED issues.

8. Status of CCL user friendliness recommendations.

9. Discussion on enforcement/red flag recommendations.

10. Working group reports.

11. Election of Chair.

The meeting will be open to the public and a limited number of seats will be available. Reservations are not accepted. To the extent time permits, members of the public may present oral statements to the Committee. Written statements may be submitted at any time before or after the meeting. However, to facilitate distribution of public presentation materials to Committee members, the Committee suggests that presenters forward the public presentation materials, two weeks prior to the meeting date, to the following address: Ms. Lee Ann Carpenter, OSIES/EA/BIS, MS: 3876, U.S. Department of Commerce, 14th St. & Constitution Ave., NW., Washington, DC 20230.

For more information contact Lee Ann Carpenter on (202) 482-2583.

Dated: November 13, 2002.
Lee Ann Carpenter,
Committee Liaison Officer.

[FR Doc. 02-29159 Filed 11-15-02; 8:45 am]

BILLING CODE 3510-JT-M